FEDERAL COMMUNICATIONS COMMISSION

47 CFR Parts 73 and 74

[MB Docket No. 20-74, GN Docket No. 16-142; Report No. 3177; FRS 37431]

Petition for Reconsideration of Action in Rulemaking Proceeding

AGENCY: Federal Communications Commission.

ACTION: Petition for Reconsideration.

SUMMARY: Petitions for Reconsideration (Petitions) have been filed in the Commission's rulemaking proceeding by Paul Margie, Paul Caritj, and Jason Neal, Harris, Wiltshire & Grannis LLP, on behalf of Microsoft Corporation.

DATES: Oppositions to the Petition must be filed on or before August 3, 2021. Replies to an opposition must be filed on or before August 13, 2021.

ADDRESSES: Federal Communications Commission, 45 L Street NE, Washington, DC 20554.

FOR FURTHER INFORMATION CONTACT: Ty Bream, Media Bureau, Industry Analysis Division, (202) 418-0644 or ty.bream@fcc.gov.

SUPPLEMENTARY INFORMATION: This is a summary of the Commission's document, Report No. 3177, released June 23, 2021. The full text of the Petition can be accessed online via the Commission's Electronic Comment Filing System at: http://apps.fcc.gov/ecfs/. The Commission will not send a Congressional Review Act (CRA) submission to Congress or the Government Accountability Office pursuant to the CRA, 5 U.S.C. 801(a)(1)(A), because no rules are being adopted by the Commission.

Subject: Rules Governing the Use of Distributed Transmission System Technologies; Authorizing Permissive Use of the “Next Generation” Broadcast Television Standard, FCC 21-21, 86 FR 21217, released January 19, 2021, MB Docket No. 20-74; GN Docket No. 16-142. This document is being published pursuant to 47 CFR 1.429(e). See also 47 CFR 1.4(b)(1) and 1.429(f), (g).

Number of Petitions Filed: 1.

Federal Communications Commission.
Marlene Dortch,
Secretary, Office of the Secretary.

[FR Doc. 2021-15077 Filed 7-16-21; 8:45 am]

BILLING CODE 6712-01-P